NATIONAL SCIENCE FOUNDATION

Sunshine Act Meeting

The National Science Board's Awards and Facilities Committee hereby gives notice of the scheduling of a meeting for the transaction of National Science Board business pursuant to the National Science Foundation Act and the Government in the Sunshine Act.

TIME AND DATE: Tuesday, August 2, 2022, from 2:00-5:00 p.m., and Wednesday, August 3, 2022, from 10:00-11:00 a.m., EDT.

PLACE: This meeting will be held at the National Science Foundation, 2415 Eisenhower Ave., Alexandria, VA, 22314.

STATUS: Closed

MATTERS TO BE CONSIDERED: The agenda of the August 2, 2022, meeting is: Committee Chair's Opening Remarks; Schedule of Future Information, Context, and Action Items; Action Item: Inclusion of Leadership-Class Computing Facility (LCCF) in a Future MREFC Budget; Action Item: Authorization to Increase the Total Project Cost for the Construction of the Regional Class Research Vessels (RCRV); Action Item: Authorization to Increase the Cost Cap of the Awards for Operations of the Seismological Facility for the Advancement of Geoscience (SAGE) and Geodetic Facility for the Advancement of Geoscience (GAGE); Action Item: Renewal of Award for Operations of NSF's National Optical-Infrared Astronomy Research Laboratory (NOIRLab).

The agenda of the August 3, 2022, meeting is: Action Item: Renewal of Award for Operations of NSF's National High Magnetic Field Laboratory (NHMFL or Mag Lab).

CONTACT PERSON FOR MORE INFORMATION: Point of contact for this meeting is: Michelle McCrackin, mmccrack@nsf.gov, (703) 292-7000. Meeting information and updates may be found at www.nsf.gov/nsb.

Chris Blair,
Executive Assistant to the National Science Board Office.

[FR Doc. 2022-16362 Filed 7-27-22; 11:15 am]

BILLING CODE 7555-01-P